DEPARTMENT OF THE TREASURY

Submission for OMB Review; Comment Request

November 22, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before January 2, 2007 to be assured of consideration.

Federal Consulting Group

OMB Number: 1505-0010.

Type of Review: Extension.

Title: Monthly Consolidated Foreign Currency Report of Major Market Participants.

Form: FC-2.

Description: Collection of information on Form FC-2 is required by law. Form FC-2 is designed to collect timely information on foreign exchange contracts purchased and sold; foreign exchange futures purchased and sold; foreign currency options and net delta equivalent value; foreign currency denominated assets and liabilities; net reported dealing positions.

Respondents: Business and other for-profits.

Estimated Total Reporting Burden: 1,152 hours.

OMB Number: 1505-0012.

Type of Review: Extension.

Title: Weekly Consolidated Foreign Currency Report of Major Market Participants.

Form: FC-1.

Description: Collection of information on Form FC-1 is required by law. Form FC-1 is designed to collect timely information on foreign exchange spot, forward and futures purchased and sold; net options position, delta equivalent value long or short; net reported dealing position long or short.

Respondents: Business and other for-profits.

Estimated Total Reporting Burden: 1,248 hours.

OMB Number: 1505-0014.

Type of Review: Extension.

Title: Quarterly Consolidated Foreign Currency Report.

Form: FC-3.

Description: Collection of information on Form FC-3 is required by law. Form FC-3 is designed to collect timely information on foreign exchange contracts purchased and sold; foreign exchange futures purchased and sold; foreign currency denominated assets and liabilities; foreign currency options and net delta equivalent value.

Respondents: Business and other for-profits.

Estimated Total Reporting Burden: 1,408 hours.

Clearance Officer: Dwight Wolkow (202) 622-1276, Department of the Treasury, 1500 Pennsylvania Avenue, NW., Room 5205,Washington, DC 20220.

OMB Reviewer: Alexander T. Hunt (202) 395-7316, Office of Management and Budget, Room 10235, New Executive Office Building, Washington, DC 20503.

Michael A. Robinson,
Treasury PRA Clearance Officer.

[FR Doc. E6-20272 Filed 11-29-06; 8:45 am]

BILLING CODE 4811-37-P